DEPARTMENT OF HOUSING AND URBAN DEVELOPMENT

[Docket No. FR-4655-N-20]

Notice of Proposed Information Collection: Comment Request; Reporting Requirements for the Auction of Section 221(g)(4) Multifamily Mortgages

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: October 9, 2001.

ADDRESSES: Interested persons are invited to submit comments regarding this proposal. Comments should refer to the proposal by name and/or OMB Control Number and should be sent to: Wayne Eddins, Reports Management Officer, Department of Housing and Urban Development, 451 7th Street, SW, L'Enfant Building, Room 8202, Washington, DC 20410.

FOR FURTHER INFORMATION CONTACT: Audrey Hinton, Office of Asset Management, Department of Housing and Urban Development, 451 7th Street, SW, Washington, DC 20410, telephone number (202) 708-2866 (this is not a toll-free number), for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Reporting Requirements for the Auction of Section 221(g)(4) Multifamily Mortgages.

OMB Control Number, if applicable: 2501-0460.

Description of the need for the information and proposed use: HUD collects information from assigning mortgagees on form HUD-93487-A “Project Summary Data Sheet”, and makes the information available to bidders participating in the auction of Section 221(g)(4) mortgages. Mortgagees that purchase the mortgages will submit form HUD-93487 “Billing for Section 221(g)(4) Monthly Interest Enhancement Payment,” in order to obtain their monthly interest enhancement payments.

Agency form numbers, if applicable: HUD-93487-A.

Estimation of the total numbers of hours needed to prepare the information collection including number of respondents, frequency of response, and hours of response: The number of respondents is 153; estimated time to prepare the information is 20 minutes for HUD-93487, and 1½ hours to prepare HUD-93487A; the frequency is 1 for HUD-93487 and 12 times for HUD-93487A; and the annual burden hours requested is 153.

Status of the proposed information collection: Reinstatement with change, of previously approved collection for which approval has expired.

Authority: The Paperwork Reduction Act of 1995, 44 U.S.C., Chapter 35, as amended.

Dated: July 30, 2001.
Sean G. Cassidy,
General Deputy Assistant Secretary for Housing—Deputy Federal Housing Commissioner.

[FR Doc. 01-19923 Filed 8-8-01; 8:45 am]

BILLING CODE 4210-27-M